DEPARTMENT OF HEALTH AND HUMAN SERVICES

Health Resources and Services Administration

Agency Information Collection Activities: Proposed Collection: Public Comment Request; Information Collection Request Title: HRSA Ryan White HIV/AIDS Program Part F Regional AIDS Education and Training Center Program Activities, OMB No. 0915-XXX New

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than September 17, 2024.

ADDRESSES: Submit your comments to paperwork@hrsa.gov or mail the HRSA Information Collection Clearance Officer, Room 14N39, 5600 Fishers Lane, Rockville, Maryland 20857.

FOR FURTHER INFORMATION CONTACT: To request more information on the proposed project or to obtain a copy of the data collection plans and draft instruments, email paperwork@hrsa.gov or call Joella Roland, the HRSA Information Collection Clearance Officer, at (301) 443-3983.

SUPPLEMENTARY INFORMATION: When submitting comments or requesting information, please include the ICR title for reference.

Information Collection Request Title: HRSA Ryan White HIV/AIDS Program Part F Regional AIDS Education and Training Center Program Activities, OMB No. 0906-xxxx—New.

Abstract: The Ryan White HIV/AIDS Program's (RWHAP) AIDS Education and Training Center (AETC) Program, authorized under Title XXVI of the Public Health Service Act, supports a network of regional centers that conduct targeted, multi-disciplinary education and training programs for health care providers treating people with HIV. The RWHAP Regional AETC Program's purpose is to increase the number of health care providers who are effectively educated and motivated to counsel, diagnose, treat, and medically manage people with HIV. The RWHAP Regional AETC Program recipients are required to report data on the training activities and trainees to HRSA once a year. HRSA is requesting the approval of new AETC data collection forms to accurately capture data relating to Regional AETC activities, participants, and site information for both Practice Transformation (PT) and Interprofessional Education (IPE) sites as well as involvement in the HIV care and treatment workforce (1-year post-participation), knowledge gained through participating in an activity, and satisfaction with the activity. The RWHAP Regional AETC Program recipients will gather data on the training activities they conduct using six data collection instruments. The Individual Participant Record is completed at least once every reporting period by participants actively engaging in Regional AETC activities. This form includes Regional AETC participant demographic, workplace, and client-served data for the participant's respective provider sites. The Training Activity Record is a form completed at the end of each Regional AETC activity that takes place during the reporting period and is completed by the regional recipients. This form describes the activity in hours, modality, and topic(s). The PT Site Characteristics/Outcomes form collects site characteristics information for PT recipient sites only, like clinic activities and procedures, and aggregate counts of clients. PT sites provide clinical services and differ from IPE sites that support students, thus necessitating a different form. The IPE Site Characteristics/Outcomes form collects site characteristics information for IPE recipient sites only. The Participant Post-Activity Immediate Survey collects information from participants immediately after an activity, specifically, their satisfaction and potential increased knowledge due to participating in said activity. The IPE Long-Term form collects 1-year post-participation information from participant students who engaged in an IPE program to gauge involvement in the field of HIV care and treatment.

Need and Proposed Use of the Information: HRSA uses the data collected when conducting RWHAP AETC programmatic assessments to determine future program needs. These data allow HRSA to identify where gaps exist in training HIV professionals as well as to measure whether training activities are meeting the goals of the National HIV/AIDS Strategy and the RWHAP statute.

Likely Respondents: RWHAP Regional AETC participants complete the Individual Participant Record at least once a reporting period. Regional AETC recipients complete a Training Activity Record for each training activity they conduct during the reporting period. All Regional AETC participants will take the Participant Post-Activity Survey immediately after any attended activity. The IPE Long-Term form will only be completed by participants who engaged in an IPE program, 1-year post-participation in the IPE program. Finally, PT recipients will complete the PT Site Characteristics/Outcomes form at least once per reporting period, and IPE recipients will complete the IPE Site Characteristics/Outcomes form at least once per reporting period.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
Individual Participant Record | 59,576 | 1 | 59,576 | 0.27 | 16,085.52
Training Activity Record | 12,226 | 1 | 12,226 | 0.21 | 2,567.46
PT, Site Characteristics and Outcomes | 128 | 1 | 128 | 0.31 | 39.68
IPE, Site Characteristics and Outcomes | 86 | 1 | 86 | 0.09 | 7.74
Participant Post-Activity Immediate Survey | 59,576 | 3 | 178,728 | 0.06 | 10,723.68
IPE, Long-Term | 4,403 | 1 | 4,403 | 0.07 | 308.21
Combined Data Set | 8 | 1 | 8 | 64 | 512.00
Total | 136,003 |  | 255,155 |  | 30,244.29

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Maria G. Button,
Director, Executive Secretariat.

[FR Doc. 2024-15957 Filed 7-18-24; 8:45 am]

BILLING CODE 4165-15-P